DEPARTMENT OF THE INTERIOR

Fish and Wildlife Service

[FWS-R5-R-2009-N0001; BAC 4311-K9; S3]

Umbagog (Formerly “Lake Umbagog”) National Wildlife Refuge, Coos County, NH and Oxford County, ME

AGENCY: Fish and Wildlife Service, Interior.

ACTION: Notice of decision and availability of record of decision.

SUMMARY: We, the U.S. Fish and Wildlife Service (Service), announce the decision and availability of the record of decision (ROD) for the final comprehensive conservation plan (CCP) and environmental impact statement (EIS) for the Umbagog (formerly “Lake Umbagog”) National Wildlife Refuge (NWR). The refuge is located in Coos County, New Hampshire, and Oxford County, Maine. We completed a thorough analysis of the environmental, social, and economic considerations and presented it in our final CCP/EIS, which we released to the public through a Federal Register notice on December 3, 2008. The ROD documents our decision to adopt and implement the final CCP/EIS Alternative B, Management for Particular Habitats and Focal Species as the CCP for Umbagog NWR. Alternative B was identified as the Service-preferred alternative in the final CCP/EIS. The Regional Director, U.S. Fish and Wildlife Service, Northeast Region, signed the ROD on January 9, 2009.

ADDRESSES: You may view or obtain copies of the ROD and final CCP/EIS by any of the following methods:

Agency Web site: Download a copy of the documents at http://www.fws.gov/northeast/planning/Lake%20Umbagog/ccphome.html.

Electronic mail: northeastplanning@fws.gov. Include “Umbagog NWR ROD” in the subject line of the message.

Mail: Paul Casey, Refuge Manager, Umbagog NWR, P.O. Box 240, Route 16 North, Errol, NH 03579.

In-Person Viewing or Pickup: Phone to make an appointment at refuge headquarters during regular business hours; 603-482-3415 (phone).

Local Libraries: The final documents are available for review at the libraries listed under SUPPLEMENTARY INFORMATION.

FOR FURTHER INFORMATION CONTACT: Paul Casey, Refuge Manager, Umbagog NWR, P.O. Box 240, Route 16 North, Errol, New Hampshire 03579; (603) 482-3415 (phone); paul_casey@fws.gov (e-mail).

SUPPLEMENTARY INFORMATION:

Introduction

With this notice, we finalize the CCP process for Umbagog NWR (formerly “Lake Umbagog” NWR). The CCP will guide us in managing and administering the refuge for the next 15 years. We started this process in a Federal Register notice (67 FR 46682; July 16, 2002). We released the draft CCP/EIS to the public, announcing and requesting comments in a notice of availability in the Federal Register (72 FR 37041; July 6, 2007). We extended the public comment period through another Federal Register notice (72 FR 45044; August 10, 2007). The full public review period lasted 77 days. We announced the availability of the final CCP/EIS in the Federal Register (73 FR 73661; December 3, 2008). Public review of that document lasted 33 days.

Umbagog NWR is a 21,650-acre refuge, which lies in Coos County, New Hampshire, and Oxford County, Maine. It contains widely diverse upland and wetland habitat types surrounding the 8,500-acre Umbagog Lake. The refuge was established to provide long-term protection to unique wetlands, threatened and endangered species, and migratory birds of conservation concern, and to sustain regionally significant concentrations of wildlife. Since establishing the refuge in 1992, we have focused our management emphasis on conserving lands within the approved boundary; monitoring the occupancy and productivity of common loon, bald eagle, and osprey nesting sites and protecting them from human disturbance; conducting baseline biological inventories; and providing wildlife-dependent recreational opportunities.

In accordance with National Environmental Policy Act (NEPA) (40 CFR 1506.6(b)) requirements, this notice announces our decision and the availability of the ROD for the final CCP/EIS for Umbagog NWR. We evaluated three alternatives and completed a thorough analysis of the environmental, social, and economic considerations in the final CCP/EIS. The ROD documents our selection of Alternative B, Management for Particular Habitats and Focal Species, which we modified in the final document in response to public comments we received on the draft document. The ROD details those modifications made in the final document. Alternative B, as we describe in the ROD and final CCP/EIS, now serves as the foundation for the approved CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Improvement Act.

Basis for Selected Alternative

Both our draft and final CCP/EIS identified 18 major issues generated by the public, other state or federal agencies, and the planning team. To address those issues, we developed and evaluated three alternatives in detail: Alternative A, Current Management; Alternative B, Management for Particular Habitats and Focal Species (Service-preferred alternative); and, Alternative C, Management to Create Natural Landscape Composition, Patterns, and Processes. Alternative B was identified as the Service-preferred alternative in both the draft and final CCP/EIS. Although the alternatives differ in many ways, they also share some similarities. Both their common elements and their distinctions were most recently outlined in the final CCP/EIS Summary document available at http://www.fws.gov/northeast/planning/Lake%20Umbagog/ccphome.htm.

Our decision is to adopt Alternative B, as described in the ROD and final CCP/EIS. The ROD details the basis of our decision, which we made after considering the following: The impacts identified in Chapter 4 of the draft and final CCP/EIS; the results of public and other agency comments; how well the alternative addresses the relevant issues, concerns, and opportunities identified during the planning process; and other relevant factors, including fulfilling the purposes for which the refuge was established, contributing to the mission and goals of the NWRS, and statutory and regulatory guidance. We have determined that Alternative B also includes the suite of activities that best achieves the stated purpose and need for action and the seven goals presented in the final CCP/EIS Chapter 1. Compared to the other two alternatives, Alternative B meets those needs and goals through the most balanced and integrated approach, considering both the biological and human environment. It will also provide the means to better respond to changing ecological and socioeconomic conditions within the surrounding environment using an adaptive management approach.

In summary, Alternative B was selected for implementation because it provides the greatest number of opportunities for the refuge to make a significant contribution to the conservation of fish, wildlife, and habitat needs in the region, as well as make a positive contribution to the local and regional communities.

Public Availability of Documents

In addition to the methods in ADDRESSES, you can view or obtain documents at the following locations:

Our Web site: http://www.fws.gov/northeast/planning/Lake%20Umbagog/ccphome.html.

At the following libraries:

Library | Address | Phone No.
Errol Public Library | Route 26, Errol, NH 03579 | 603-482-7720
Berlin Public Library | 270 Main Street, Berlin, NH 03570 | 603-752-5210
White Mountains Community College | 2020 Riverside Drive Berlin, NH 03570 | 603-752-1113
Gorham Public Library | 35 Railroad Street, Gorham, NH 03581 | 603-466-2525
Bethel Public Library | 5 Broad Street, Bethel, ME 04217 | 207-824-2520

Dated: January 9, 2009.
Marvin E. Moriarty,
Regional Director, U.S. Fish and Wildlife Service, Hadley, MA 01035.

[FR Doc. E9-5592 Filed 3-13-09; 8:45 am]

BILLING CODE 4310-55-P